DEPARTMENT OF THE INTERIOR

Office of the Secretary

[Docket No. ONRR-2012-0003]

30-Day Extension of Call for Nominations for the U.S. Extractive Industries Transparency Initiative Advisory Committee

AGENCY: Office of Natural Resources Revenue, Interior.

ACTION: Notice.

SUMMARY: On July 27, 2012, the United States Department of the Interior (DOI) published a request for nominees to be submitted by August 27, 2012. This Federal Register Notice extends the original nomination deadline by 30 days.

DATES: Nominations will be accepted through September 26, 2012.

ADDRESSES: You may submit nominations to the Committee by any of the following methods.

• Mail or hand-carry nominations to Ms. Shirley Conway; Department of the Interior; Office of Natural Resources Revenue; 1801 Pennsylvania Avenue NW, Suite 400; Washington, DC 20006.

• Email nominations to Shirley.Conway@onrr.gov or EITI@ios.doi.gov.

FOR FURTHER INFORMATION CONTACT: Shirley Conway, Office of Natural Resources Revenue; telephone (202) 254-5554; fax (202) 254-5589; email Shirley.Conway@onrr.gov. Mailing address: Department of the Interior; Office of Natural Resources Revenue; 1801 Pennsylvania Avenue NW., Suite 400; Washington, DC 20006.

SUPPLEMENTARY INFORMATION: On July 27, 2012, the Department published in the Federal Register a notice of establishment of the United States Extractive Industries Transparency Initiative (USEITI) Multi-Stakeholder Group (MSG). This notice also included a request for nominees and comments under a standard 30-day period. In response to feedback and public requests, the Department is extending this period from 30 days to 60 days, ending September 26, 2012. If you have already submitted your nomination materials you will not need to resubmit.

Dated: August 20, 2012.
Paul A. Mussenden,
Deputy Assistant Secretary for Natural Resources Revenue Management.

[FR Doc. 2012-20793 Filed 8-22-12; 8:45 am]

BILLING CODE 4310-MR-P